DEPARTMENT OF HEALTH AND HUMAN SERVICES

Centers for Medicare & Medicaid Services

[Document Identifier: CMS-10133, CMS-250-254, CMS-R-5, CMS-10157 and CMS-10279]

Agency Information Collection Activities: Proposed Collection; Comment Request

Agency: Centers for Medicare & Medicaid Services, HHS.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Competitive Acquisition Program (CAP) for Medicare Part B Drugs: Vendor Application and Bid Form; Use: Section 303 (d) of the Medicare Modernization Act (MMA) requires the implementation of a competitive acquisition program for Medicare Part B drugs and biologicals not paid on a cost or prospective payment system basis. The CAP is an alternative to the Average Sales Price (ASP or “buy and bill”) method of acquiring many Part B drugs and biologicals administered incident to a physician's services. The CAP Vendor Application and Bid Form, is used by bidders to provide a response to CMS' solicitation for approved CAP vendor bids and to submit their bid prices for CAP drugs. Though the program is currently on hold and a timeline for the resumption of the CAP has not been established, the CAP Vendor Application and Bid Form will be required to conduct the next round of vendor bidding. Form Number: CMS-10133 (OMB#: 0938-0955); Frequency: Reporting—Occasionally; Affected Public: Private Sector; Business or other for-profits; Number of Respondents: 10; Total Annual Responses: 10; Total Annual Hours: 1. (For policy questions regarding this collection contact Bonny Dahm at 410-786-4006. For all other issues call 410-786-1326.)

2. Type of Information Collection Request: Extension of a currently approved collection; Title of Information Collection: Medicare Secondary Payer Information Collection and Supporting Regulations in 42 CFR 411.25, 489.2, and 489.20; Form Number: CMS 250-254 (OMB#: 0938-0214); Use: Medicare Secondary Payer Information (MSP) is essentially the same concept known in the private insurance industry as coordination of benefits, and refers to those situations where Medicare does not have primary responsibility for paying the medical expenses of a Medicare beneficiary. Medicare Fiscal Intermediaries, Carriers, and now Part D plans, need information about primary payers in order to perform various tasks to detect and process MSP cases and make recoveries. MSP information is collected at various times and from numerous parties during a beneficiary's membership in the Medicare Program. Collecting MSP information in a timely manner means that claims are processed correctly the first time, decreasing the costs associated with adjusting claims and recovering mistaken payments.; Frequency: Reporting—On Occasion; Affected Public: Individuals or Households, Business or other for-profit, Not-for-profit institutions; Number of Respondents: 143,070,217; Total Annual Responses: 143,070,217; Total Annual Hours: 1,788,057. (For policy questions regarding this collection contact John Albert at 410-786-7457. For all other issues call 410-786-1326.)

3. Type of Information Collection Request: Extension of a currently approved collection; Title of Information Collection: Physician Certification/Recertification in Skilled Nursing Facilities (SNFs) Manual Instructions and Supporting Regulation in 42 CFR 424.20; Use: The Medicare program requires, as a condition for Medicare Part A payment for posthospital skilled nursing facility (SNF) services that a physician must certify and periodically recertify that a beneficiary requires an SNF level of care. The physician certification and recertification is intended to ensure that the beneficiary's need for services has been established and then reviewed and updated at appropriate intervals. Form Number: CMS-R-5 (OMB#: 0938-0454); Frequency: Recordkeeping—Occasionally; Affected Public: Private Sector; Business or other for-profits and Not-for-profit institutions; Number of Respondents: 5,167,993; Total Annual Responses: 5,167,993; Total Annual Hours: 661,265. (For policy questions regarding this collection contact Kia Sidbury at 410-786-7816. For all other issues call 410-786-1326.)

4. Type of Information Collection Request: Revision of a currently approved collection; Title of Information Collection: CMS Real-time Eligibility Agreement and Access Request; Form Number: CMS-10157 (OMB#: 0938-0960); Use: Federal law requires that CMS take precautions to minimize the security risk to Federal information systems. Accordingly, CMS is requiring that trading partners who wish to conduct the eligibility transaction on a real-time basis to access Medicare beneficiary information provide certain assurances as a condition of receiving access to the Medicare database for the purpose of conducting eligibility verification. Health care providers, clearinghouses, and health plans that wish access to the Medicare database are required to complete this form. The information will be used to assure that those entities that access the Medicare database are aware of applicable provisions and penalties. Frequency: Recordkeeping and Reporting—One time; Affected Public: Business or other for-profit, Not-for-profit institutions; Number of Respondents: 2000; Total Annual Responses: 500; Total Annual Hours: 500. (For policy questions regarding this collection contact Vivian Rogers at 410-786-8142. For all other issues call 410-786-1326.)

5. Type of Information Collection Request: New collection; Title of Information Collection: Ambulatory Surgical Center Conditions for Coverage; Form Number: CMS-10279 (OMB#: 0938-New); Use: The Ambulatory Surgical Center (ASC) Conditions for Coverage (CfCs) focus on a patient-centered, outcome-oriented, and transparent processes that promote quality patient care. The CfCs are designed to ensure that each facility has properly trained staff to provide the appropriate type and level of care for that facility and provide a safe physical environment for patients. The CfCs are used by Federal or State surveyors as a basis for determining whether an ASC qualifies for approval or re-approval under Medicare. CMS and the healthcare industry believe that the availability to the facility of the type of records and general content of records, which this regulation specifies, is standard medical practice and is necessary in order to ensure the well-being and safety of patients and professional treatment accountability. Frequency: Recordkeeping and Reporting—One time; Affected Public: Business or other for-profit, Not-for-profit institutions; Number of Respondents: 5,100; Total Annual Responses: 5,100; Total Annual Hours: 193,800. (For policy questions regarding this collection contact Jacqueline Morgan at 410-786-4282. For all other issues call 410-786-1326.)

To obtain copies of the supporting statement and any related forms for the proposed paperwork collections referenced above, access CMS' Web site at http://www.cms.hhs.gov/PaperworkReductionActof1995, or e-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by May 19, 2009:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number ___ Room C4-26-05, 7500 Security Boulevard, Baltimore, Maryland 21244-1850.

Dated: March, 13, 2009.
Michelle Shortt,
Director, Regulations Development Group, Office of Strategic Operations and Regulatory Affairs.

[FR Doc. E9-6038 Filed 3-19-09; 8:45 am]

BILLING CODE 4120-01-P